DEPARTMENT OF ENERGY

Federal Energy Regulatory Commission

[AD11-8-000]

Notice Inviting Comments on Report

January 20, 2011.

Frequency Response Metrics to Assess Requirements for Reliable Integration of Variable Renewable Generation | Docket No. AD11-8-000

The Commission is posting, and inviting comment upon, a report prepared by the Lawrence Berkeley National Laboratory, “Use of Frequency Response Metrics to Assess the Planning and Operating Requirements for Reliable Integration of Variable Renewable Generation” and its five supporting papers (collectively, “the Report”).

Frequency response measures how the bulk power system performs in responding to a sudden loss of generation that could cause reliability problems such as blackouts. The purpose of the Report is to develop an objective methodology to evaluate the reliability impacts of varying resource mixes including increased amounts of renewable resources. The Report accomplishes this objective by developing and testing tools that can be used to assess and plan for the operational requirements of the bulk power system. The Report may assist the Commission in the development of policies relating to the issues raised in the Report.

The Report will be posted on the Commission's Web site at http://www.ferc.gov.

Comments on the Report should be filed within 45 days of the issuance of this Notice. The Commission encourages electronic submission of comments in lieu of paper using the “eFiling” link at http://www.ferc.gov. Persons unable to file electronically should submit an original and 14 copies of the comment to the Federal Energy Regulatory Commission, 888 First Street, NE., Washington, DC 20426.

All filings in this docket are accessible on-line at http://www.ferc.gov, using the “eLibrary” link and will be available for review in the Commission's Public Reference Room in Washington, DC. There is an “eSubscription” link on the Web site that enables subscribers to receive e-mail notification when a document is added to a subscribed docket. For assistance with any FERC Online service, please e-mail FERCOnlineSupport@ferc.gov, or call (866) 208-3676 (toll free). For TTY, call (202) 502-8659.

Questions regarding this Notice should be directed to: Robert V. Snow, Office of Electric Reliability, Federal Energy Regulatory Commission, 888 First Street, NE., Washington, DC 20426. 202-502-6716. Robert.Snow@ferc.gov.

Kimberly D. Bose,
Secretary.

[FR Doc. 2011-1713 Filed 1-26-11; 8:45 am]

BILLING CODE 6717-01-P